DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 8, 2000.

Interested persons are invited to submit written comments regarding the subject matter of the investigations to the Director, Division of Trade Adjustment Assistance, at the address shown below, not later than May 8, 2000.

The petitions filed in this case are available for inspection at the Office of the Director, Division of Trade Adjustment Assistance, Employment and Training Administration, U.S. Department of Labor, 200 Constitution Avenue, NW., Washington, DC 20210.

Signed at Washington, DC this 3rd day of April, 2000.
Grant D. Beale,
Program Manager, Division of Trade Adjustment Assistance.

Appendix
[Petitions Instituted On 04/03/2000]
TA-W | Subject firm (petitioners) | Location | Date of petition | Product(s)
37,520 | Althin Medical, Inc (Wrks) | Miami Lake, FL | 03/02/2000 | Hemodialysis Machines.
37,521 | Woodgrain Millwork, Inc (Comp) | Lakeview, OR | 03/15/2000 | Pine Mouldings.
37,522 | INX International Ink Co (Wrks) | Warminster, PA | 03/20/2000 | Printing Inks.
37,523 | Sangamon, Inc (PACE) | Taylorville, IL | 03/17/2000 | Greeting Cards.
37,524 | Gaudette Leather Goods (Wrks) | North Attleboro, MA | 03/14/2000 | Organizers, Key Fobes, Frames.
37,525 | Old Deerfield Fabrics (UNITE) | Cedar Grove, NJ | 03/08/2000 | Textile Printing.
37,526 | Milco Industries Co., Inc (Wrks) | Bloomsburg, PA | 03/21/2000 | Night Gowns, Robes, PJ's.
37,527 | C.P. Lighting, Inc (Wrks) | Pottsville, PA | 03/21/2000 | Portable Lighting.
37,528 | Trinity Fitting (Wrks) | Ackerman, MS | 03/11/2000 | Carbon Steel Pipe Flanges.
37,529 | Hartz and Co., Inc. (UNITE) | Broadway, VA | 03/24/2000 | Men's Suits, Sportcoats.
37,530 | American Recreation Prod (Comp) | Mineola, TX | 03/23/2000 | Sleeping Bags.
37,531 | Swank, Inc. (Comp) | Attleboro, MA | 03/21/2000 | Costume Jewelry.
37,532 | Berne Apparel Co (The) (Wrks) | Berne, IN | 03/16/2000 | Work Jackets.
37,533 | Hexcel Structures (Wrks) | Kent, WA | 03/23/2000 | Composite Airplane Parts.
37,534 | Hartwell Sports (Wrks) | Tylertown, MS | 03/22/2000 | Men's Jackets.
37,535 | Alliance Carolina Tool (Comp) | Arden, NC | 03/22/2000 | Plastic Molded Printer Parts.
37,536 | Talema Electronic, Inc (Comp) | St. James, MO | 03/21/2000 | Toroidal Transformers.
37,537 | Barry Manufacturing Co. (Comp) | Lynn, MA | 03/10/2000 | Shoes—Children's, Infants.
37,538 | North American Heater (Wrks) | Franklin, TN | 03/16/2000 | Heating Coils.
37,539 | Quebecor World, Inc (Comp) | Nashville, TN | 03/24/2000 | Commercial Printing.
37,540 | Kimberly Clark Corp (Comp) | Cleburne, TX | 03/28/2000 | Cut Fabric.
37,541 | Joshua L. Baily and Co (Comp) | Hoboken, NJ | 03/13/2000 | Unfinished Woven Fabrics.
37,542 | Phillips Petroleum GPM (Comp) | Bartlesville, OK | 03/23/2000 | Natural Gas and Natural Gas Liquids.
37,543 | Chevron Products USA (UNITE) | El Paso, TX | 03/20/2000 | Crude Oil.
37,544 | Fall River Weaving (Wrks) | Fall River, MA | 03/23/2000 | Narrow Fabrics.
37,545 | Midwest Micro (Wrks) | Fletcher, OH | 03/22/2000 | Computers and Related Components.
37,546 | Best Manufacturing Co (Comp) | Moss Point, MS | 03/22/2000 | Nitrile Gloves.
37,547 | Donnkenny Apparel, Inc (Comp) | Independence, VA | 03/16/2000 | Ladies' Sportswear.

[FR Doc. 00-10582 Filed 4-27-00; 8:45 am]

BILLING CODE 4510-30-M